DEPARTMENT OF TRANSPORTATION

Federal Aviation Administration

14 CFR Part 39

[Docket No. FAA-2012-0273; Directorate Identifier 2011-NM-149-AD; Amendment 39-16988; AD 2012-06-07]

RIN 2120-AA64

Airworthiness Directives; Airbus Airplanes

AGENCY: Federal Aviation Administration (FAA), Department of Transportation (DOT).

ACTION: Final rule; request for comments.

SUMMARY: We are superseding an existing airworthiness directive (AD) for certain Model A330-200 and -300 series airplanes, and Model A340-200, -300, -500, and -600 series airplanes. This AD was prompted by reports of loose pneumatic quick-disconnect unions on Goodrich pitot probes that might be the result of mis-torque of the affected unions at equipment manufacturing level. This AD adds airplanes to the AD applicability. We are issuing this AD to detect and correct loose unions on the pitot probes, which could lead to an air leak, resulting in incorrect total pressure measurement and consequent erroneous calibrated airspeed (CAS)/MACH parameters delivered to the flightcrew by the air data computer.

DATES: This AD becomes effective April 6, 2012.

The Director of the Federal Register approved the incorporation by reference of certain documents listed in this AD as of September 22, 2010 (75 FR 50871, August 18, 2010).

We must receive comments on this AD by May 7, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, FAA, Transport Airplane Directorate, 1601 Lind Avenue SW., Renton, Washington 98057-3356; telephone (425) 227-1138; fax (425) 227-1149.

SUPPLEMENTARY INFORMATION:

Discussion

On July 30, 2010, we issued AD 2010-17-02, Amendment 39-16392 (75 FR 50871, August 18, 2010). That AD required actions intended to address an unsafe condition on certain Model A330-200 and -300 series airplanes, and Model A340-200, -300, -500, and -600 series airplanes.

Since we issued AD 2010-17-02, Amendment 39-16392 (75 FR 50871, August 18, 2010), we have certified two new models: Model A330-223F and -243F airplanes. We are issuing this AD to include them in the requirements of that earlier AD. The European Aviation Safety Agency (EASA), which is the Technical Agent for the Member States of the European Community, has issued EASA Airworthiness Directive 2011-0138, dated July 20, 2011 (referred to after this as “the MCAI”), to correct an unsafe condition for the specified products. The MCAI states:

Several reports have recently been received of loose pneumatic quick-disconnect unions on Goodrich pitot probes [part number] P/N 0851HL. These may be the result of mis-torque of the affected unions at equipment manufacturing level. Investigations are still on-going to determine the root cause(s).

This condition, if not corrected, could lead to an air leak, resulting in incorrect total pressure measurement and consequent erroneous Calibrated Airspeed (CAS)/MACH parameters delivered by the Air Data Computer (ADC).

As a precautionary measure, EASA issued Emergency AD 2009-0202 to require a torque check of the pneumatic quick-disconnect union on certain Goodrich P/N 0851HL pitot probes and corrective action, depending on findings.

EASA AD 2009-0202-E was subsequently republished to remove an erroneous reference to Appendix A from the Reason section, as no Appendix was attached to this [EASA] AD. [EASA] AD 2009-0202 was later revised to exclude pitot probes marked with a red torque check-mark from the torque-check required by paragraph (2.1) of this [EASA] AD.

This [EASA] AD retains the requirements of EASA AD 2009-0202R1 [which corresponds to FAA AD 2010-17-02, Amendment 39-16392 (75 FR 50871, August 18, 2010)], which is superseded, and expands the Applicability to include the newly certified Model A330-223F and Model A330-243F aeroplanes.

Loss or fluctuation of indicated airspeed could result in misleading information provided to the flightcrew. If the quick-disconnect union fitted on the pitot probe is not adequately torqued, the corrective action includes applying torque. You may obtain further information by examining the MCAI in the AD docket.

Change to AD 2010-17-02, Amendment 39-16392 (75 FR 50871, August 18, 2010)

We have revised certain headers throughout this AD. We have also revised the wording in paragraph (g)(3) of this AD. This revision does not change the intent of paragraph (g)(3) of AD 2010-17-02, Amendment 39-16392 (75 FR 50871, August 18, 2010).

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0273; Directorate Identifier 2011-NM-149-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2010-17-02, Amendment 39-16392 (75 FR 50871, August 18, 2010), and adding the following new AD:

2012-06-07 Airbus: Amendment 39-16988. Docket No. FAA-2012-0273; Directorate Identifier 2011-NM-149-AD.

(a) Effective Date

This airworthiness directive (AD) becomes effective April 6, 2012.

(b) Affected ADs

This AD supersedes AD 2010-17-02, Amendment 39-16392 (75 FR 50871, August 18, 2010).

(c) Applicability

This AD applies to the Airbus airplanes identified in paragraphs (c)(1), (c)(2), and (c)(3) of this AD; certificated in any category; all manufacturer serial numbers; with pitot probes having Goodrich part number (P/N) 0851HL, serial numbers 267328 through 270714 inclusive.

(1) Model A330-201, -202, -203, -223, -223F, -243, -243F, -301, -302, -303, -321, -322, -323, -341, -342, and -343 airplanes.

(2) Model A340-211, -212, -213, -311, -312, and -313 airplanes.

(3) Model A340-541 and -642 airplanes.

(d) Subject

Air Transport Association (ATA) of America Code 34: Navigation.

(e) Reason

This AD was prompted by reports of loose pneumatic quick-disconnect unions on Goodrich pitot probes that might be the result of mis-torque of the affected unions at equipment manufacturing level. We are issuing this AD to detect and correct loose unions on the pitot probes, which could lead to an air leak, resulting in incorrect total pressure measurement and consequent erroneous calibrated airspeed (CAS)/MACH parameters delivered to the flightcrew by the air data computer (ADC).

(f) Compliance

You are responsible for having the actions required by this AD performed within the compliance times specified, unless the actions have already been done.

(g) Restatement of Requirements of AD 2010-17-02, Amendment 39-16392 (75 FR 50871, August 18, 2010): Actions for Airplanes Other Than Models A330-223F and -243F

For all airplanes except Model A330-223F and -243F airplanes: At the time specified, do the following actions.

(1) Within 14 days after September 22, 2010 (the effective date of AD 2010-17-02, Amendment 39-16392 (75 FR 50871, August 18, 2010)): Perform a torque check of the pneumatic quick-disconnect union of each pitot probe having Goodrich P/N 0851HL, serial numbers 267328 through 270714 inclusive, to determine if the torque is adequate, in accordance with the instructions of the applicable service information specified in table 1 of this AD. Before further flight, do all applicable corrective actions in accordance with the instructions of the applicable service information specified in table 1 of this AD.

Table 1—Airbus Service Information
Airbus all operators telex— | Revision— | Dated—
A330-34A3235 (for Model A330-201, -202, -203, -223, -243, -301, -302, -303, -321,-322, -323, -341, -342, and -343 airplanes) | 02 | March 1, 2010.
A340-34A4241 (for Model A340-211, -212, -213, -311, -312, and -313 airplanes) | 02 | March 1, 2010.
A340-34A5074 (for Model A340-541 and -642 airplanes) | 02 | March 1, 2010.

(2) Within 30 days after performing the torque check required by paragraph (g)(1) of this AD, or within 30 days after September 22, 2010 (the effective date of AD 2010-17-02, Amendment 39-16392 (75 FR 50871, August 18, 2010), whichever occurs later: Report the torque check results to Airbus, including no findings, as specified in the instructions of the applicable service information listed in table 1 of this AD.

(3) This paragraph provides credit for the actions required by paragraph (g)(1) of this AD, if those actions were done before September 22, 2010 (the effective date of AD 2010-17-02, Amendment 39-16392 (75 FR 50871, August 18, 2010), using the applicable service information listed in table 2 of this AD.

Table 2—Airbus Credit Service Information
Airbus all operators telex— | Revision— | Dated—
A330-34A3235 |  | September 10, 2009.
A330-34A3235 | 1 | September 21, 2009.
A340-34A4241 |  | September 10, 2009.
A340-34A4241 | 1 | September 21, 2009.
A340-34A5074 |  | September 10, 2009.
A340-34A5074 | 1 | September 21, 2009.

(4) As of September 22, 2010 (the effective date of AD 2010-17-02, Amendment 39-16392 (75 FR 50871, August 18, 2010), no person may install a pitot probe having Goodrich P/N 0851HL, serial numbers 267328 through 270714 inclusive, on any airplane, unless the actions required by paragraph (g)(1) of this AD have been done; or an intact red torque check mark is visible on the interface of the pneumatic quick disconnect union and the union mount.

(h) New Requirements of This AD: Actions for Model A330-223F and -243F Airplanes

For Model A330-223F and -243F airplanes: At the time specified, do the following actions.

(1) Within 14 days after the effective date of this AD: Perform a torque check of the pneumatic quick-disconnect union of each pitot probe having Goodrich P/N 0851HL, serial numbers 267328 through 270714 inclusive, to determine if the torque is adequate, in accordance with the instructions of Airbus All Operators Telex A330-34A3235, Revision 02, dated March 1, 2010. Before further flight, do all applicable corrective actions, in accordance with Airbus All Operators Telex A330-34A3235, Revision 02, dated March 1, 2010.

(2) Within 30 days after performing the torque check required by paragraph (g)(1) of this AD, or within 30 days after the effective date of this AD, whichever occurs later: Report the torque check results to Airbus, including no findings, as specified in the instructions of Airbus All Operators Telex A330-34A3235, Revision 02, dated March 1, 2010.

(3) This paragraph provides credit for the actions required by paragraph (h)(1) of this AD, if those actions were done before the effective date of this AD using Airbus All Operators Telex A330-34A3235, dated September 10, 2009; or Airbus All Operators Telex A330-34A3235, Revision 1, dated September 21, 2009.

(4) As of the effective date of this AD, no person may install a pitot probe having Goodrich P/N 0851HL, serial numbers 267328 through 270714 inclusive, on any airplane, unless the actions required by paragraph (h)(1) of this AD have been done; or an intact red torque check mark is visible on the interface of the pneumatic quick disconnect union and the union mount.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, FAA, Transport Airplane Directorate, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Related Information

Refer to European Aviation Safety Agency (EASA) Airworthiness Directive 2011-0138, dated July 20, 2011, and the service information specified in table 1 of this AD, for related information.

(k) Material Incorporated by Reference

(1) You must use the following service information to do the actions required by this AD, unless the AD specifies otherwise. The Director of the Federal Register approved the incorporation by reference (IBR) of the following service information under 5 U.S.C. 552(a) and 1 CFR part 51 on September 22, 2010 (75 FR 50871, August 18, 2010):

(i) Airbus All Operators Telex A330-34A3235, Revision 02, dated March 1, 2010.

(ii) Airbus All Operators Telex A340-34A4241, Revision 02, dated March 1, 2010.

(iii) Airbus All Operators Telex A340-34A5074, Revision 02, dated March 1, 2010.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 7, 2012.
Ali Bahrami,
Manager, Transport Airplane Directorate, Aircraft Certification Service.

[FR Doc. 2012-6773 Filed 3-21-12; 8:45 am]

BILLING CODE 4910-13-P